DEPARTMENT OF ENERGY

Federal Energy Regulatory Commission

Combined Notice of Filings

Take notice that the Commission has received the following Natural Gas Pipeline Rate and Refund Report filings:

Filing Instituting Proceedings

Docket Numbers: RP15-1228-000.

Applicants: WBI Energy Transmission, Inc.

Description: § 4(d) rate filing per 154.204: 2015 Semi-annual Fuel & Electric Power Reimbursement to be effective 10/1/2015.

Filed Date: 8/31/15.

Accession Number: 20150831-5176.

Comments Due: 5 p.m. ET 9/14/15.

Docket Numbers: RP15-1229-000.

Applicants: MoGas Pipeline LLC.

Description: § 4(d) rate filing per 154.403(d)(2): Annual Fuel and Gas Loss Retention Percentage Adjustment Filing to be effective 10/1/2015.

Filed Date: 8/31/15.

Accession Number: 20150831-5201.

Comments Due: 5 p.m. ET 9/14/15.

Docket Numbers: RP15-1230-000.

Applicants: Sierrita Gas Pipeline LLC.

Description: § 4(d) rate filing per 154.204: DART Compatibility and Index Price Update Filing to be effective 10/1/2015.

Filed Date: 8/31/15.

Accession Number: 20150831-5234.

Comments Due: 5 p.m. ET 9/14/15.

Docket Numbers: RP15-1231-000.

Applicants: Kinetica Energy Express, LLC.

Description: Compliance filing per 154.203: Order No. 776 Compliance Filing ACA Surcharge to be effective 10/1/2015.

Filed Date: 8/31/15.

Accession Number: 20150831-5246.

Comments Due: 5 p.m. ET 9/14/15.

Docket Numbers: RP15-1232-000.

Applicants: Colorado Interstate Gas Company, L.L.C.

Description: § 4(d) rate filing per 154.403(d)(2): FL&U to be effective 10-1-15 to be effective 10/1/2015.

Filed Date: 8/31/15.

Accession Number: 20150831-5254.

Comments Due: 5 p.m. ET 9/14/15.

Docket Numbers: RP15-1233-000.

Applicants: Colorado Interstate Gas Company, L.L.C.

Description: Operational Purchase and Sales Report of Colorado Interstate Gas Company, L.L.C. under RP15-1233.

Filed Date: 8/31/15.

Accession Number: 20150831-5283.

Comments Due: 5 p.m. ET 9/14/15.

Docket Numbers: RP15-1234-000.

Applicants: Gulf South Pipeline Company, LP.

Description: § 4(d) rate filing per 154.204: Amendments to Neg Rate Agmts (QEP 37657-179, 36601-53) to be effective 9/1/2015.

Filed Date: 8/31/15.

Accession Number: 20150831-5306.

Comments Due: 5 p.m. ET 9/14/15.

Docket Numbers: RP15-1235-000.

Applicants: Gulf South Pipeline Company, LP.

Description: § 4(d) rate filing per 154.204: Amendment to Neg Rate Agmt (ONEOK 34951-113) to be effective 9/1/2015.

Filed Date: 8/31/15.

Accession Number: 20150831-5310.

Comments Due: 5 p.m. ET 9/14/15.

Docket Numbers: RP15-1236-000.

Applicants: Gulf South Pipeline Company, LP.

Description: § 4(d) rate filing per 154.204: Amendment to Neg Rate Agmt (Devon 34694-64) to be effective 9/1/2015.

Filed Date: 8/31/15.

Accession Number: 20150831-5312.

Comments Due: 5 p.m. ET 9/14/15.

Docket Numbers: RP15-1238-000.

Applicants: Young Gas Storage Company, Ltd.

Description: § 4(d) rate filing per 154.204: Park and Loan Filing to be effective 10/1/2015.

Filed Date: 8/31/15.

Accession Number: 20150831-5346.

Comments Due: 5 p.m. ET 9/14/15.

Docket Numbers: RP15-1239-000.

Applicants: Southeast Supply Header, LLC.

Description: § 4(d) rate filing per 154.204: SESH Incremental Fuel—Amended FTS Contract to be effective 9/1/2015.

Filed Date: 8/31/15.

Accession Number: 20150831-5396.

Comments Due: 5 p.m. ET 9/14/15.

Docket Numbers: RP15-1240-000.

Applicants: Texas Eastern Transmission, LP.

Description: Compliance filing per 154.203: 2015 Operational Entitlements Filing to be effective N/A under.

Filed Date: 8/31/15.

Accession Number: 20150831-5410.

Comments Due: 5 p.m. ET 9/14/15.

Docket Numbers: RP11-2473-000.

Applicants: Gulf South Pipeline Company, LP.

Description: Compliance filing per 154.501: 2014 CICO Filing to be effective N/A under RP11-2473.

Filed Date: 9/1/15.

Accession Number: 20150901-5189.

Comments Due: 5 p.m. ET 9/14/15.

Docket Numbers: RP11-2474-000.

Applicants: Gulf Crossing Pipeline Company LLC.

Description: Compliance filing per 154.501: 2014 CICO Filing to be effective N/A.

Filed Date: 9/1/15.

Accession Number: 20150901-5188.

Comments Due: 5 p.m. ET 9/14/15.

Docket Numbers: RP15-1241-000.

Applicants: Central Kentucky Transmission Company.

Description: § 4(d) rate filing per 154.204: CKT.TCO Split to be effective 10/1/2015 under RP15-1241.

Filed Date: 9/1/15.

Accession Number: 20150901-5101.

Comments Due: 5 p.m. ET 9/14/15.

Docket Numbers: RP15-1242-000.

Applicants: Equitrans, L.P.

Description: § 4(d) rate filing per 154.204: Negotiated Capacity Release Agreements—09/01/2015 to be effective 9/1/2015.

Filed Date: 9/1/15.

Accession Number: 20150901-5102.

Comments Due: 5 p.m. ET 9/14/15.

Docket Numbers: RP15-1243-000.

Applicants: Columbia Gulf Transmission, LLC.

Description: § 4(d) rate filing per 154.204: 2015 Cash Out Filing to be effective 10/1/2015.

Filed Date: 9/1/15.

Accession Number: 20150901-5111.

Comments Due: 5 p.m. ET 9/14/15.

Docket Numbers: RP15-1244-000.

Applicants: Millennium Pipeline Company, LLC.

Description: § 4(d) rate filing per 154.204: Negotiated Rate Service Agmt—Columbia 165033 to be effective 10/1/2015.

Filed Date: 9/1/15.

Accession Number: 20150901-5117.

Comments Due: 5 p.m. ET 9/14/15.

Docket Numbers: RP15-1245-000.

Applicants: Columbia Gas Transmission, LLC.

Description: Off System Capacity Request of Columbia Gas Transmission, LLC under RP15-1245.

Filed Date: 9/1/15.

Accession Number: 20150901-5145.

Comments Due: 5 p.m. ET 9/14/15.

Docket Numbers: RP15-1246-000.

Applicants: Columbia Gulf Transmission, LLC.

Description: FTS-2 Out of Path Refund Report of Columbia Gulf Transmission under RP15-.

Filed Date: 9/1/15.

Accession Number: 20150901-5146.

Comments Due: 5 p.m. ET 9/14/15.

Docket Numbers: RP15-1247-000.

Applicants: Excelerate Gas Marketing, Limited Partne, Excelerate Energy L.P.

Description: Joint Petition for Limited Waiver and Request for Expedited Action of Excelerate Gas Marketing, Limited Partnership and Excelerate Energy Limited Partnership under RP15-1247.

Filed Date: 9/1/15.

Accession Number: 20150901-5169.

Comments Due: 5 p.m. ET 9/8/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2015.
Nathaniel J. Davis, Sr.,
Deputy Secretary

[FR Doc. 2015-22805 Filed 9-9-15; 8:45 am]

BILLING CODE 6717-01-P